DEPARTMENT OF LABOR

Employment and Training Administration

Notice of Revision; Notice of the Advisory Committee on Apprenticeship (ACA) Open Meeting and New Members

AGENCY: Employment and Training Administration, Labor.

ACTION: Notice.

SUMMARY: On September 16, 2010, the Employment and Training Administration published a Notice announcing an Open Meeting of the Advisory Committee on Apprenticeship (ACA) and identifying the members of the Committee. 75 FR 56578. The title and text of the notice mistakenly included the phrase “Renewal of the Advisory Committee on Apprenticeship (ACA)” which may have inadvertently confused the intention of the notice. We are publishing a Notice of revision today to clarify that the Committee and its Charter have not been renewed; the current members were appointed, and the meeting is being conducted, under the 2009 ACA Charter.

FOR FURTHER INFORMATION CONTACT: John V. Ladd, Administrator, Office of Apprenticeship, ETA, U.S. Department of Labor, Room N-5311, 200 Constitution Avenue, NW., Washington, DC Telephone: (202) 693-2796 (this is not a toll-free number).

SUPPLEMENTARY INFORMATION: On September 16, 2010, the Employment and Training Administration published a Notice announcing an Open Meeting of the Advisory Committee on Apprenticeship (ACA) and identifying the members of the Committee. 75 FR 56578. The title and summary of the notice mistakenly included the word renewal which may have inadvertently confused the intention of the notice.

The title of the notice published on September 16, 2010 should have read: “Notice of the Advisory Committee on Apprenticeship (ACA), Members and an Open Meeting. The use of the word Renewal in the title and in the Summary of the Notice should not be read to imply that the Committee Charter has been recently renewed. The current 2009 ACA charter remains in effect and is not being renewed at this time. We are publishing a Notice of revision today to clarify that the Committee and its Charter have not been renewed; the current members were appointed, and the meeting is being conducted, under the 2009 ACA Charter.

Consistent with the Federal Advisory Committee Act (FACA) requirement to publish a timely notice of the ACA meeting, the September 16, 2010 Federal Register Notice, as clarified by this notice of clarification, serve as public notice of the open meeting being held on October 27-28, 2010.

Signed at Washington, DC, this 16th day of September, 2010.
Jane Oates,
Assistant Secretary, Employment and Training Administration.

[FR Doc. 2010-23613 Filed 9-21-10; 8:45 am]

BILLING CODE 4510-FR-P